Title 3—

The President

Presidential Determination No. 2020-05 of January 6, 2020

Presidential Determination on Waiving a Restriction on United States Assistance to Bolivia Under Section 706 of the Foreign Relations Authorization Act, Fiscal Year 2003

Memorandum for the Secretary of State

By the authority vested in me as President by the Constitution and the laws of the United States, including section 706(3)(A) of the Foreign Relations Authorization Act, Fiscal Year 2003 (Public Law 107-228) (FRAA), I hereby determine that the provision of United States assistance to Bolivia in Fiscal Year 2020 is vital to the national interests of the United States.

You are authorized and directed to submit this determination, with its memorandum of justification, under section 706 of the FRAA, to the Congress, and to publish it in the Federal Register.

THE WHITE HOUSE,

Washington, January 6, 2020

[FR Doc. 2020-02473

Filed 2-5-20; 8:45 am]

Billing code 4710-10-P